DEPARTMENT OF DEFENSE

Department of the Army

48 CFR Part 5145

[Docket No. USA-2019-DARS-0012]

RIN 0702-AB06

Repeal of Obsolete Acquisition Regulation: Government Property

AGENCY: Department of the Army, DOD.

ACTION: Final rule.

SUMMARY: This final rule removes an obsolete Army acquisition regulation for government-furnished property. This rule has been made obsolete by updated higher-level regulation.

DATES: This rule is effective on July 15, 2019.

FOR FURTHER INFORMATION CONTACT: Mr. John Courtis, 703-697-0888, Email: john.t.courtis.civ@mail.mil.

SUPPLEMENTARY INFORMATION: This final rule will remove 48 CFR part 5145, “Government Property,” which was codified on September 27, 1989 (54 FR 39538), and never updated. The purpose of the rule was to describe the conditions under which the government may provide property (facilities or material) to contractors for use under contracts. The rule was intended to be in place for a two-year test period. On May 15, 2007 Federal Acquisition Regulation (FAR) part 45 was amended to simplify procedures related to the management and disposition of government property in the possession of contractors (72 FR 27364). This update was made with the intention of reducing existing clauses and procedures related to government property. The update included the clause at FAR 52.245-1, “Government Property,” (codified May 15, 2007 (72 FR 27390) and most recently updated January 13, 2017 (82 FR 4715)) which contains requirements for the use, management, and disposal of government property. Several other FAR and Defense FAR Supplement (DFARS) clauses provide comprehensive coverage of various aspects of government property management. These regulations have made the rule at part 5145 obsolete.

The removal of this text supports a recommendation from the DoD Regulatory Reform Task Force. On February 24, 2017, the President signed Executive Order (E.O.) 13777, “Enforcing the Regulatory Reform Agenda,” which established a Federal policy “to alleviate unnecessary regulatory burdens” on the American people. In accordance with E.O. 13777, DoD established a Regulatory Reform Task Force to review and validate DoD regulations. The DoD Task Force reviewed the requirements of 48 CFR part 5145 and determined that the coverage was obsolete and recommended removal.

It has been determined that publication of this CFR part removal for public comment is impracticable, unnecessary, and contrary to public interest since it is based on removing obsolete information. Additionally, the statute that applies to the publication of the Federal Acquisition Regulation (FAR) is 41 U.S.C. 1707 entitled “Publication of Proposed Regulations.” Paragraph (a)(1) of the statute requires that a procurement policy, regulation, procedure or form (including an amendment or modification thereof) must be published for public comment if it relates to the expenditure of appropriated funds, and has either a significant effect beyond the internal operating procedures of the agency issuing the policy, regulation, procedure, or form, or has a significant cost or administrative impact on contractors or offerors. This final rule is not required to be published for public comment, because the Army is not issuing a new regulation; rather, this rule merely removes obsolete parts from chapter 51 of title 48 of the CFR.

This rule is not significant under Executive Order (E.O.) 12866, “Regulatory Planning and Review”; therefore, the requirements of E.O. 13771, “Reducing Regulation and Controlling Regulatory Costs” do not apply.

List of Subjects in 48 CFR Part 5145

Government procurement.

PART 5145—[REMOVED]

Accordingly, by the authority of 5 U.S.C. 301, 48 CFR part 5145 is removed.

Brenda S. Bowen,
Army Federal Register Liaison Officer.

[FR Doc. 2019-14970 Filed 7-12-19; 8:45 am]

BILLING CODE 5001-03-P